DEPARTMENT OF ENERGY

Federal Energy Regulatory Commission

[Docket No. CP19-19-000]

Magnolia LNG, LLC; Notice of Availability of the Final Supplemental Environmental Impact Statement for the Proposed; Magnolia LNG Production Capacity Amendment

The staff of the Federal Energy Regulatory Commission (FERC or Commission) has prepared a final supplemental environmental impact statement (EIS) for the Production Capacity Amendment, proposed by Magnolia LNG, LLC (Magnolia LNG) in the above-referenced docket. Magnolia LNG requests authorization to increase the liquefied natural gas (LNG) production capacity of the previously authorized Magnolia LNG Project in Calcasieu Parish, Louisiana (Docket No. CP14-347-000) from 8 million metric tonnes per annum (MTPA) to 8.8 MTPA. The increased LNG production capacity would be achieved through the optimization of Magnolia LNG's final design for the terminal, including additional and modified process equipment.

The final supplemental EIS assesses the potential changes to the air and noise emissions, and our reliability and safety engineering analyses associated with the construction and operation of the Production Capacity Amendment from what was presented in the final EIS in Docket No. CP14-347-000 for the Magnolia LNG Project. The FERC staff concludes that the proposed modifications, with the additional mitigation measures recommended in the supplemental EIS, would continue to avoid or reduce impacts to less than significant levels.

The U.S. Department of Transportation's Pipeline and Hazardous Materials Safety Administration, the U.S. Coast Guard, and the U.S. Department of Energy participated as cooperating agencies in the preparation of the supplemental EIS. Cooperating agencies have jurisdiction by law or special expertise with respect to resources potentially affected by the proposal and participate in the analysis conducted under the National Environmental Policy Act.

The Commission mailed a copy of the Notice of Availability for the final supplemental EIS to federal, state, and local government representatives and agencies; elected officials; environmental and public interest groups; Native American tribes; potentially affected landowners and other interested individuals and groups; and newspapers and libraries in the project area. The final supplemental EIS is only available in electronic format. It may be viewed and downloaded from the FERC's website (www.ferc.gov), on the Environmental Documents page (https://www.ferc.gov/industries/gas/enviro/eis.asp). In addition, the final supplemental EIS may be accessed by using the eLibrary link on the FERC's website. Click on the eLibrary link (https://www.ferc.gov/docs-filing/elibrary.asp), click on General Search, and enter the docket number in the Docket Number field, excluding the last three digits (i.e., CP19-19). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: January 24, 2020.
Kimberly D. Bose,
Secretary.

[FR Doc. 2020-01693 Filed 1-29-20; 8:45 am]

BILLING CODE 6717-01-P